DEPARTMENT OF THE INTERIOR

Bureau of Land Management

[CA-930-1430-ET; CACA 7231, CACA 7232, CACA 7234, CACA 7235, CACA 7236, and CACA 7239]

Withdrawal of Public Lands for the Bureau of Reclamation's Colorado River Storage and Yuma Project; California; Corrections

AGENCY: Bureau of Land Management, Interior.

ACTION: Correction.

SUMMARY: This action corrects the errors in the legal descriptions of several withdrawal and revocation orders affecting portions of the Coachella and All American Canals and ancillary facilities.

FOR FURTHER INFORMATION CONTACT: Duane Marti, Bureau of Land Management, 916-978-4675, or Kimber Kirkland, Bureau of Reclamation, 928-343-8153.

SUPPLEMENTARY INFORMATION: The corrections made by this notice are subject to valid existing rights. All legal descriptions are San Bernardino Meridian, California.

1. This action corrects errors in the legal descriptions contained in (a) The Secretary of the Interior's Order dated March 18, 1913, which reads “T. 17 S., R. 16 E., W½ Sec. 1; all secs. 2 and 3; lots 3, 9, 13, 14, NW¼SE¼ sec. 10; N½NE¼ and NW¼ sec. 11; lot 5, Sec. 16. Tracts 40, 46, 47, 54, 55, 74.” is hereby corrected to read “T. 17 S., R. 16 E., W½ Sec. 1; all secs. 2 and 3; lots 3, 9, 13, 14, sec. 10; N½NE¼ and NW¼ sec. 11; lot 5, sec. 16. Tracts 40, 46, 47, 54, 55, 74.” and (b) Bureau of Land Management's Order Opening Public Lands Restored from the Colorado River and Yuma Projects, which is dated July 13, 1956, which reads “T. 17 S., R. 16 E., sec. 10, lot 13, and NW¼SE¼; sec. 11, N½NE¼.” is hereby corrected to read “T. 17 S., R. 16 E., sec. 10, lot 13, and sec. 11, N½NE¼.”

2. This action corrects errors in the legal descriptions contained in Bureau of Reclamations' Order of Revocation, Yuma Project, California, which is dated August 12, 1947, and concurred in by Bureau of Land Management on September 15, 1947, as follows: for T. 10 S., R. 15 E., which reads “secs. 1 to 30, incl., and 33 to 36, incl., all.” is hereby corrected to read “secs. 1 to 29, inclusive; sec. 30, lots 3 to 5, inclusive, E½, E½W½; and secs. 33 to 36, inclusive.”

3. This action corrects errors in the legal descriptions contained in Bureau of Reclamation's Order of Revocation, Colorado River Storage Project, California, which is dated August 14, 1947, and concurred in by Bureau of Land Management on September 15, 1947, as follows: for T. 9 S., R. 13 E, which reads “secs. 1 to 6, incl., 9 to 15, incl., 19, 24, and 28 to 35, incl. all.” is hereby corrected to read “secs. 1 to 5, inclusive, sec. 6, lots 3 to 8, inclusive, S½NE¼, SE¼NW¼, E½SW¼, SE¼; secs. 9 to 15, inclusive, 19, 24, and 28 to 35, inclusive.”

4. This action corrects errors in the legal descriptions contained in Bureau of Reclamation's Order of Revocation, Yuma Project, California, which is dated October 14, 1954, and concurred in by Bureau of Land Management on August 1, 1956, as follows: “T. 6 S., R. 9 E., sec. 18, lots 1 and 2, E½, E½W½; secs. 19 and 20, all;” is hereby corrected to read “T. 6 S., R. 9 E., sec. 18, lot 1, NE¼, E½W½, SE¼; sec. 19, all; sec. 20, NE¼, N½NW¼, and SE¼;'

5. This action corrects errors in the legal descriptions contained in Bureau of Reclamation's Order of Revocation, Colorado River Storage and Yuma Projects, California, which is dated December 4, 1953, and concurred in by Bureau of Land Management on August 24, 1956, as follows:

(a) Under T. 7 S., R. 10 E., “secs. 7, 15 to 23, incl., 25 to 27, incl., all.” is hereby corrected to read “secs. 7, 15 to 21, incl., sec. 22, SW¼SW¼NE¼, N½NW¼NW¼, N½NW¼, S½NW¼, SW¼, W½SE¼, NW¼NE¼SE¼, S½N½SE¼, S½SE¼; sec. 23, all; sec. 25, all; sec. 26, N½NE¼, SE¼NE¼, W½NW¼NW¼, SW¼NW¼, S½SE¼NW¼, E½SW¼, SW¼NW¼SE¼, W½SW¼SE¼, SE¼SW¼SE¼; sec. 27, all.”

(b) Under T. 7 S., R. 11 E., “secs. 27, 28, and 30 to 36, incl., all” is hereby corrected to read “secs. 27, 28, 30, 31, 33, 35, and 36, all.”

(c) Under T. 8 S., R. 11 E., “secs. 1, 2, 6, 12, and 13, all” is hereby corrected to read “sec. 1, sec. 2, W½W½N½, S½; sec. 6, W½N½, S½; secs. 12 and 13.”

(d) Under T. 8 S., R. 12 E., “secs. 5 to 9, incl., 16 to 22, incl., 24 to 30, incl., and 32 to 36, incl., all.” is hereby corrected to “sec. 5; sec. 6, SW¼, W½SE¼; sec. 7; sec. 8, NE¼, E½NW¼, NE¼SW¼, SE¼; sec. 9; secs. 16 to 19, inclusive; sec. 20, W½NE¼, NW¼, S½; sec. 21; sec. 22, N½, N½SW¼, N½SE¼, SE¼SE¼; secs. 24 and 25; sec. 26, NE¼, NE¼NW¼, SW¼SW¼, NE¼SE¼; secs. 27 to 30, inclusive, and secs. 32 to 36, inclusive.”

(e) Under T. 9 S., R. 12 E., “secs. 3, 4, and 12, all.” is hereby corrected to read “secs. 3 and 4; sec. 12, W½NE¼, NW¼, S½.”

(f) Under T. 9 S., R. 13 E., “secs. 7, 8, 16 to 18, incl., 20 to 23, incl., 25 to 27, incl., and 36, all.” is hereby corrected to read “secs. 7, 8, 16, and 17; sec. 18, W½, NW¼SE¼, and S½SE¼; sec. 20, SW¼NE¼, NW¼, and S½; sec. 21; sec. 22, NE¼, N½NW¼, SE¼NW¼, SW¼SW¼, NE¼SE¼; sec. 23; secs. 25 to 27, inclusive, and sec. 36.”

(g) Under T. 10 S., R. 14 E., “secs. 3 to 6, incl., 8 to 11, incl., 14 to 16, incl., 22 to 26, incl., and 36, all.” is hereby corrected to read “secs. 3 to 5, inclusive, sec. 6, lots 6, 7, and 13 to 16, inclusive, E½SW¼, SE¼; sec. 8, SW¼NE¼, W½, SE¼; sec. 9; sec. 10, E½, NW¼, N½SW¼, SE¼SW¼; sec. 11; sec. 14, E½, NW¼, N½SW¼, and SE¼SW¼; secs. 15 and 16, inclusive, sec. 22, SW¼NE¼, W½, and SE¼; secs. 23 to 25, inclusive, sec. 26, W½NE¼, W½, and SE¼; and sec. 36.”

(h) Under T. 10 S., R. 15 E., “secs. 31 and 32, all.” is hereby corrected to read “sec. 31, all; sec. 32, N½, N½SW¼, SE¼SW¼, and SE¼.”

6. This action corrects an error in the legal descriptions contained in Public Land Order No. 3801, published as FR Doc. 65-9160 in the Federal Register on August 28, 1965 at page 11139 (30 FR 11139) for a partial revocation of Reclamation Withdrawals, Yuma Project, as follows: Under T. 5 S., R. 7 E., “sec. 12, NW¼SE¼, SE¼SE¼.” is hereby corrected to read “sec. 12, SE¼SE¼.”

7. This action corrects an error in the legal descriptions contained in Public Land Order No. 5791, published as FR Doc. 80-39804 in the Federal Register on December 23, 1980 at page 84788 (45 FR 84788) for a partial revocation of Reclamation Withdrawals, as follows:

On page 84788, (a) under T. 12 S., R. 16 E., “sec. 21, N½, N½SW¼, SE¼SW¼, and SE¼.” is hereby corrected to read “sec. 21, N½, NE¼SW¼, and SE¼.”

(b) under T. 16 S., R. 20 E., partially surveyed, “secs. 20 to 22, inclusive; secs. 26 to 29, inclusive; secs. 33 to 35, inclusive; secs. 37 to 51, inclusive; secs. 56 to 57.” is hereby corrected to read “sec. 20; sec. 21, N½, and SW¼; sec. 22, lots 1 to 4, inclusive, NE¼, and SE¼; sec. 26, NE¼, NE¼NW¼, S½NW¼, and S½; sec. 27, S½; secs. 34 to 35, inclusive; secs. 37 to 43, inclusive; secs. 46 to 48, inclusive; secs. 56 and 57.”

8. This action corrects an error in the legal descriptions contained in Public Land Order No. 6576, published as FR Doc. 84-28136 in the Federal Register on October 25, 1984 on page 42934 (49 FR 42934) for a partial revocation of Secretarial Order of October 19, 1920, and Public Land Order No. 4690 of September 15, 1969, as follows: Under T. 6 S., R. 8 E., “sec. 2, lot 1 of the NE¼, W½ of lot 2 of the NE¼, E½ of lot 2 of the NW¼, W½NW¼SE¼, and W½SE¼SE¼.” is hereby corrected to read “sec. 2, lot 1 of the NE¼, W½ of lot 2 of the NE¼, E½ of lot 2 of the NW¼, and W½NW¼SE¼.”

9. This action corrects errors in the legal descriptions referenced in Public Land Order No. 7262, published as FR Doc. 97-14486 in the Federal Register on June 4, 1997 on page 30613 (62 FR 30613) for modification and revocation of 19 Secretarial Orders, and 2 Bureau of Land Management Orders, which withdrew lands for the Bureau of Reclamation, California. Those legal descriptions are contained in a notice, published as FR Doc. 92-4838 in the Federal Register on March 3, 1992 on page 7599 (57 FR 7599) for proposed continuation of withdrawals, California. Those legal descriptions are corrected as follows:

(a) On page 7599, column 2, under CA-7231, Secretarial Order of January 31, 1903 as modified by Secretarial Orders of April 9, 1909 and April 5, 1910: (i) for T. 13 S., R. 16 E., “sec. 1., lots 2, 3, 6, 7, 10, 15, 16, 17, 24;” is hereby corrected to read “sec. 1, lots 2, 3, 6, 7,10, 11, 14, 15, 16, 17, 18, 23, 24, 25, and that portion of lot 9 lying southwesterly of the boundary of the North Algodones Wilderness Area;” (ii) the legal description for T. 17 S., R 16 E., is hereby corrected by adding “sec. 10, NW¼SE¼;” (iii) for T. 15 S., R. 18 E., “sec. 11, SW¼SE¼, SW¼, SW¼NW¼, W½SE¼NW¼, S½NW¼NW¼;” is hereby corrected to read “sec. 11, SW¼SE¼, SW¼, NW¼NW¼, S½NW¼;” and “sec. 24, E½SE¼SE¼, N½SE¼, S½NE¼, NW¼NE¼, N½NW¼, SE¼NW¼;” is hereby corrected to read “sec. 24, SE¼SE¼, N½SE¼, S½NE¼, NW¼NE¼, N½NW¼, SE¼NW¼;” (iv) for the legal description under CA-7231, the following is added “T. 16 S., R. 18 E., sec. 31, lots 5 and 6, NE¼SW¼, N½SE¼, S½NW¼; sec. 32, S½N½, N½N½SW¼, N½SE¼; sec. 33, SW¼, S½SE¼; sec. 34, S½S½; sec. 35, S½S½;” (v) for T. 16 S., R. 19 E., “sec. 2, SW¼SW¼; sec. 12, SW¼SW¼; sec. 33, S½S½; and sec. 34, S½S½” are added; “sec. 3, S½;” is hereby corrected to read “sec. 3, lots 3 and 4, SW¼NE¼, S½NW¼, S½;”; “sec. 13, SW¼, SW¼NW¼;” is hereby corrected to read “sec. 13, NW¼NW¼, S½NW¼, SW¼, SW¼SE¼;”; “sec. 25, NE¼NE¼NE¼, S½;” is hereby corrected to read “sec. 25, NE¼NE¼, S½;”; “sec. 31, E½;” is hereby corrected to read “sec. 31, lot 6, SE¼SW¼, E½;”; and “sec. 35, E½;” is hereby corrected to read “sec. 35, S½SW¼, E½.”

(b) On page 7599, column 3, under CA-7232, (i) “Secretarial Order of April 12, 1909 as modified by Secretarial Orders of April 5, 1910 and February 11, 1920” is hereby corrected to read “Secretarial Order of April 2, 1909, as modified by Secretarial Orders of April 5, 1910 and February 11, 1920” (ii) the legal description for CA-7232 is hereby corrected by adding “T. 10 S., R. 15 E., sec. 30, lot 6.”

(c) On page 7600, column 1 under CA-7234, Secretarial Order of February 28, 1918, under T. 15 S., R. 19 E., “sec. 19, lots 3, 4, SE¼SW¼, SW¼SW¼SE¼;” is hereby corrected to read “sec. 19, lots 3, 4, SE¼SW¼, SW¼SE¼;”; “sec. 32, NE¼NW¼, N½NE½, SE¼NE¼, NE¼SW¼NE¼;” is hereby corrected to read “sec. 32, NE¼NW¼, NE¼;” and “sec. 33, SW¼NW¼, N½SW¼, SE¼SW¼, W½NW¼SE¼, S½SE¼;” is hereby corrected to “sec. 33, NW¼NW¼, S½NW¼, N½SW¼, SE¼SW¼, NW¼SE¼, S½SE¼;”

(d) On page 7600, column 1, under CA-7235, Secretarial Order of March 15, 1919, for T. 16 S., R. 20 E., the legal description is hereby corrected by adding “sec. 21, SE¼; sec. 22, SW¼; sec. 26, NW¼NW¼; sec. 27, N½; secs. 28 to 29, inclusive; sec. 33; secs. 44 and 45; secs. 49 to 51, inclusive.”; “sec. 30, NW¼NW¼, S½NW¼, SW¼, W½SW¼SE¼;” is hereby corrected to read “sec. 30, NW¼NW¼, S½NW¼, SW¼, SW¼SE¼;”

(e) On page 7600, column 1, under CA-7236, (i) “Secretarial Order of November 19, 1920” is hereby corrected to read “Secretarial Order of October 19, 1920” (ii) the legal description under T. 5 S., R. 7 E., is hereby corrected by adding “sec. 12, NW¼SE¼;” (iii) “T. 6 S., R. 8 E., sec. 2 E½NW¼SE¼, NE¼SE¼, E½SE¼SE¼;” is hereby corrected to read “T. 6 S., R. 8 E., sec. 2, E½NW¼SE¼, E½SE¼;” (iv) “T. 6 S., R. 9 E., sec. 18, lots 3, 4; sec. 28, SW¼SW¼; sec. 34, SW¼SW¼” is hereby corrected to read “T. 6 S., R. 9 E., sec. 18, lots 2 to 4, inclusive; sec. 20, S½NW¼, SW¼; sec. 28, SW¼SW¼; sec. 34, SW¼SW¼.” (v) the legal description under T. 8 S., R. 11 E., is hereby corrected by adding “sec. 2, N½, NE¼SW¼, S½SW¼, and SE¼;” and “sec. 6, N½, lots 1 and 2 of SW¼, SE¼;” (vi) the legal description under CA-7236 is hereby corrected by adding “T. 8 S., R. 12 E., sec. 6, N½, E½SE¼; sec. 8, W½W½, SE¼SW¼; sec. 20, E½NE¼; sec. 22, S½SW¼, SW¼SE¼; sec. 26, NW¼NW¼, S½NW¼, N½SW¼, SE¼SW¼, NW¼SE¼, S½SE¼.”

(f) On page 7601, column 2, CA-7239, Secretarial Order of June 4, 1930, (i) under T. 12 S., R. 16 E., “sec. 21, SW¼SW¼;” and “sec. 28, S½, S½NE¼, SW¼NW¼NE¼, NW¼;” are hereby corrected to read “sec. 21, NW¼SW¼, S½SW¼;” and “sec. 28, S½, S½NE¼, NW¼NE¼, NW¼;” (ii) under T. 13 S., R. 17 E., “sec. 8, SW¼SW¼NE¼, NW¼, NE¼SW¼, NE¼SE¼, SW¼, NW¼SE¼, S½SE¼; sec. 17, N½NE¼, SE¼NE¼; sec. 21, NE¼, NE¼NW¼, E½SE¼, NE¼NW¼SE¼; sec. 22, S½SW¼, NW¼SW¼; sec. 26, SW¼SW¼SW¼; sec. 27, SW¼NE¼, N½NW¼, SE¼NW¼, NE¼SW¼, SE¼; sec. 34, NE¼NE¼, E½SE¼NE¼;” is hereby corrected to read “sec. 8, that portion of SE¼SW¼NE¼ lying southwesterly of the boundary of the North Algodones Wilderness Area, N½SW¼NE¼, SW¼SW¼NE¼, NW¼, E½SW¼, NW¼SE¼, S½SE¼; sec. 17, N½NE¼, SE¼NE¼; sec. 21, NE¼, NE¼NW¼, E½SE¼, NW¼SE¼; sec. 22, S½SW¼, NW¼SW¼; sec. 26, SW¼SW¼; sec. 27, W½NE¼, N½NW¼, SE¼NW¼, NE¼SW¼, and SE¼; sec. 34, E½NE¼;”; (iii) under T. 14 S., R. 18 E., “sec. 17, SW¼SW¼SW¼; sec. 18, lot 1, NE¼NE¼SW¼, SW¼NE¼, E½NW¼; sec. 19, E½SE¼NE¼, NE¼NE¼; sec. 20, SE¼SW¼, N½SW¼, W½NW¼SE¼, SW¼SE¼, S½NW¼, NW¼NW¼;” is hereby corrected to read “sec. 17, SW¼SW¼; sec. 18, lot 1, NE¼SW¼, SW¼NE¼, E½NW¼; sec. 19, E½NE¼; sec. 20, SE¼SW¼, N½SW¼, W½SE¼, S½NW¼, NW¼NW¼;”; and “sec. 33, SE¼SE¼, N½SE¼, S½NE¼, NW¼NE¼, E½NW¼; sec. 34, SW¼SW¼, W½NW¼SW¼.” is hereby corrected to read “sec. 33, SE¼SE¼, N½SE¼, S½NE¼, NW¼NE¼, E½NW¼, NW¼NW¼; sec. 34, W½SW¼.” (iv) the legal description under CA-7239 is hereby corrected by adding “T. 11 S., R. 15 E., sec. 8, SE¼NE¼.”

Dated: June 26, 2003.
Rebecca W. Watson,
Assistant Secretary—Lands and Minerals Management.

[FR Doc. 03-17927 Filed 7-15-03; 8:45 am]

BILLING CODE 4310-40-P